FEDERAL COMMUNICATIONS COMMISSION

[OMB 3060-XXXX; FRS 28762]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before July 26, 2021. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele, (202) 418-2991.

OMB Control Number: 3060-XXXX.

Title: 47 CFR Section 90.372, Dedicated Short-Range Communications (DSRC) Notification Requirement.

Form No.: N/A.

Type of Review: New information collection.

Respondents: Business or other for-profit, Not-for-profit institutions, Federal Government, and State, Local or Tribal Government.

Number of Respondents and Responses: 125 respondents; 125 responses.

Estimated Time per Response: 2 hours.

Frequency of Response: Recordkeeping requirement; On occasion and one-time reporting requirements.

Obligation to Respond: Required to obtain or retain benefits. Statutory authority for this information collection is contained in sections 309 and 316 of the Communications Act of 1934, as amended, 47 U.S.C. 309 and 316.

Total Annual Burden: 250 hours.

Total Annual Cost: $62,500.

Privacy Act Impact Assessment: No impact(s).

Nature and Extent of Confidentiality: No information is requested that would require assurance of confidentiality.

Needs and Uses: The Commission will submit this information collection to OMB as a new collection after this 60-day comment period to obtain the full three-year clearance.

On November 20, 2020, the Federal Communications Commission released a First Report and Order, Further Notice of Proposed Rulemaking, and Order of Proposed Modification, Use of the 5.850-5.925 GHz Band, ET Docket No. 19-138. Among other things, the Commission repurposed 45 megahertz of the 5.850-5.925 GHz band (the 5.9 GHz band), specifically the spectrum from 5.850-5.895 GHz, to allow for the expansion of unlicensed operations into the sub-band. At the same time, the Commission recognized that the 5.9 GHz band plays an important role in supporting intelligent transportation system (ITS) operations, and therefore continued to dedicate 30 megahertz of the 5.9 GHz band, specifically the sub-band from 5.895-5.925 GHz, for use by the ITS radio service. In addition, to promote the most efficient and effective use of the remaining ITS spectrum, the Commission will require ITS operations in the 5.895-5.925 GHz sub-band to transition from the current technology, Dedicated Short-Range Communications (DSRC), to the emerging Cellular Vehicle-to-Everything (C-V2X)-based technology by the end of a transition period to be decided following action on the Further Notice.

47 CFR New Section 90.372 requires DSRC licensees to notify the Commission that they have ceased operations in the 5.850-5.895 GHz sub-band. Below is section 90.372 as adopted in the First Report and Order.

§ 90.372 DSRCS Notification Requirement

(a) DSRCS licensees authorized pursuant to 90.370(b) must notify the Commission that as of the transition deadline of July 5, 2022, they have ceased operating in the 5.850-5.895 GHz portion of the band. This notification must be filed via ULS within 15 days of the expiration of the transition deadline.

(b) Continued operation in the 5.850-5.895 GHz portion of the band after the transition deadline, will result in automatic termination of that licensee's authorization without specific Commission action.

Federal Communications Commission.
Marlene Dortch,
Secretary, Office of the Secretary.

[FR Doc. 2021-11064 Filed 5-25-21; 8:45 am]

BILLING CODE 6712-01-P